DEPARTMENT OF COMMERCE

International Trade Administration

[A-489-501]

Circular Welded Carbon Steel Standard Pipe and Tube Products From Turkey: Preliminary Results of Antidumping Duty Administrative Review and Preliminary Determination of No Shipments; 2018-2019

AGENCY: Enforcement and Compliance, International Trade Administration, Department of Commerce.

SUMMARY: The Department of Commerce (Commerce) preliminarily determines that producers and/or exporters subject to this administrative review made sales of subject merchandise at less than normal value. Interested parties are invited to comment on these preliminary results.

DATES: Applicable July 24, 2020.

FOR FURTHER INFORMATION CONTACT: Magd Zalok or Robert Bolling, AD/CVD Operations, Office IV, Enforcement and Compliance, International Trade Administration, U.S. Department of Commerce, 1401 Constitution Avenue NW, Washington, DC 20230; telephone: (202) 482-4162 or (202) 482-3434, respectively.

SUPPLEMENTARY INFORMATION:

Background

Commerce is conducting an administrative review of the antidumping duty order on welded carbon steel standard pipe and tube products (welded pipe and tube) from Turkey. The period of review (POR) is May 1, 2018 through April 30, 2019. Commerce published the notice of initiation of this administrative review on July 15, 2019.¹ The preliminary results are listed below in the section titled “Preliminary Results of Review.”

¹ See Initiation of Antidumping and Countervailing Duty Administrative Reviews, 84 FR 33739 (July 15, 2019).

This review covers the following companies: Borusan Mannesmann Boru Sanayi ve Ticaret A.S. (Borusan Mannesmann) and Borusan Istikbal Ticaret T.A.S. (Borusan Istikbal) (collectively, Borusan); ² Toscelik Profil ve Sac Endustrisi A.S. (Toscelik Endustrisi), Tosyali Dis Ticaret A.S. (Tosyali Ticaret), and Toscelik Metal Ticaret A.S. (Toscelik Metal) (collectively, Toscelik); ³ Borusan Birlesik Boru Fabrikalari San ve Tic (Borusan Birlesik); Borusan Gemlik Boru Tesisleri A.S. (Borusan Gemlik); Borusan Holding (BMBYH), Borusan Ihracat Ithalat ve Dagitim A.S. (Borusan Ihracat); Borusan Ithicat ve Dagitim A.S. (Borusan Ithicat); Borusan Mannesmann Yatirim Holding (BMYH), Tubeco Pipe and Steel Corporation (Tubeco); Erbosan Erciyas Boru Sanayi ve Ticaret A.S. (Erbosan); Kale Baglanti Teknolojileri San. ve Tic. A.S. (Kale Baglanti), Noksel Selik Boru Sanayi A.S. (Noksel Selik), Yucel Boru ve Profil Endustrisi A.S. (Yucel), Yucelboru Ihracat Ithalat ve Pazarlama A.S. (Yucelboru), Cayirova Boru Sanayi ve Ticaret A.S. (Cayirova), Kale Baglann Teknolojileri San. Ve Tic. A.S. (Kale Baglann), Borusan Istikbal Ticaret (Istikbal Ticaret) and Cinar Boru Profil San. ve Tic. As (Cinar Boru). The sole mandatory respondent in this administrative review is Borusan.⁴ On January 16, 2020, we extended the deadline for the preliminary results by 117 days to May 27, 2020.⁵ Moreover, on April 24, 2020, Commerce tolled all deadlines in administrative reviews by 50 days, thereby extending the deadline for these results until July 16, 2020.⁶

² In prior segments of this proceeding, we treated Borusan Mannesmann Boru Sanayi ve Ticaret A.S. and Borusan Istikbal Ticaret T.A.S. as a single entity. See, e.g., Welded Carbon Steel Standard Pipe and Tube Products from Turkey: Final Results of Antidumping Duty Administrative Review and Final Determination of No Shipments; 2013-2014, 80 FR 76674, 76674 n.2 (December 10, 2015). We preliminarily determine that there is no evidence on the record for altering our treatment of Borusan Mannesmann Boru Sanayi ve Ticaret A.S. and Borusan Istikbal Ticaret T.A.S., as a single entity. The record does not support treating the following companies as part of the Borusan Mannesmann Boru Sanayi ve Ticaret A.S./Borusan Istikbal Ticaret T.A.S. entity: (1) Borusan Birlesik; (2) Borusan Gemlik; (3) Borusan Ihracat; (4) Borusan Ithicat; and (5) Tubeco. Accordingly, as discussed infra, each of these five companies will be assigned the rate applicable to companies not selected for individual examination in this review.

³ In prior segments of this proceeding, we treated Toscelik Profil ve Sac Endustrisi A.S., Tosyali Dis Ticaret A.S., and Toscelik Metal as a single company. See, e.g., Welded Carbon Steel Standard Pipe and Tube Products from Turkey: Final Results of Antidumping Duty Administrative Review and Final Determination of No Shipments; 2013-2014, 80 FR 76674, 76674 n.2 (December 10, 2015). We preliminarily determine that there is no evidence on the record for altering our treatment of Toscelik Profil ve Sac Endustrisi A.S., Tosyali Dis Ticaret A.S., and Toscelik Metal as a single company.

⁴ See Memorandum, “Administrative Review of the Antidumping Duty Order on Welded Carbon Steel Standard Pipe and Tube Products from Turkey: Respondent Selection,” dated August 28, 2019 (Respondent Selection Memorandum).

⁵ See Memorandum, “2018-2019 Antidumping Duty Administrative Review of Circular Welded Carbon Steel Standard Pipe and Tube Products from Turkey: Extension of Deadline for Preliminary Results of Antidumping Duty Administrative Review,” dated January 16, 2020.

⁶ See Memorandum, “Tolling of Deadlines for Antidumping and Countervailing Duty Administrative Reviews in Response to Operational Adjustments Due to COVID-19,” dated April 24, 2020.

For a complete description of the events that followed the initiation of this administrative review, see the Preliminary Decision Memorandum.⁷

⁷ See Memorandum, “Decision Memorandum for Preliminary Results of Antidumping Duty Administrative Review: Circular Welded Carbon Steel Standard Pipe and Tube Products from Turkey; 2017-2018,” dated concurrently with, and hereby adopted by, this notice (Preliminary Decision Memorandum).

Scope of the Order

The merchandise subject to the order is welded pipe and tube. The welded pipe and tube subject to the order is currently classifiable under subheading 7306.30.10.00, 7306.30.50.25, 7306.30.50.32, 7306.30.50.40, 7306.30.50.55, 7306.30.50.85, and 7306.30.50.90 of the Harmonized Tariff Schedule of the United States (HTSUS). The HTSUS subheading is provided for convenience and customs purposes. A full description of the scope of the order is contained in the Preliminary Decision Memorandum.

Methodology

Commerce is conducting this review in accordance with section 751 of the Tariff Act of 1930, as amended (the Act). Export price is calculated in accordance with section 772 of the Act. Normal value is calculated in accordance with section 773 of the Act.

For a full description of the methodology underlying our conclusions, see the Preliminary Decision Memorandum. A list of the topics included in the Preliminary Decision Memorandum is included in the Appendix to this notice.

The Preliminary Decision Memorandum is a public document and is made available to the public via Enforcement and Compliance's Antidumping and Countervailing Duty Centralized Electronic Service System (ACCESS). ACCESS is available to registered users at http://access.trade.gov. In addition, a complete version of the Preliminary Decision Memorandum can be found at http://enforcement.trade.gov/frn/index.html. The signed and the electronic versions of the Preliminary Decision Memorandum are identical in content.

Preliminary Determination of No Shipments

On June 26, 2019, and July 22, 2019, Cinar Boru and Noksel Selik, respectively, submitted letters to Commerce certifying that they had no sales, shipments, or entries of the subject merchandise to the United States during the POR.⁸ Similarly, on July 30, 2019, Cayirova, Yucel, and Yucelboru submitted a letter to Commerce certifying that they each individually had no sales, shipments, or entries of the subject merchandise to the United States during the POR.⁹ Moreover, on July 31, 2019, Toscelik submitted a letter to Commerce certifying that it had no sales, shipments, or entries of the subject merchandise to the United States during the POR.¹⁰ On July 18, 2019, Commerce obtained U.S. Customs and Border Protection (CBP) data for U.S. imports of Circular Welded Carbon Steel Standard Pipe and Tube Products From Turkey entering under case number A-489-501 during the period May 1, 2018 through April 30, 2019, for all parties for which it initiated this administrative review. ¹¹ We received no information from CBP regarding the existence of entries of subject merchandise from these companies during the POR. Based on their certifications and our analysis of CBP information, we preliminarily determine that Cinar Boru, Noksel Selik, Cayirova, Yucel, Yucelboru, Toscelik Endustrisi A.S., Tosyali Ticaret, and Toscelik Metal each had no reviewable transactions during the POR. Consistent with our practice, we are not preliminarily rescinding the review with respect to these eight companies, but, rather, we will complete the review for these companies and issue appropriate instructions to CBP based on the final results of this review.¹² Further, while we received no information from CBP regarding the existence of entries of subject merchandise from Borusan Istikbal during the POR, we continue to find Borusan Istikbal to be part of the single entity, Borusan, and we find no record evidence that warrants altering this treatment. Therefore, because we find that Borusan had shipments during this POR, we have not made a preliminary determination of no-shipments with respect to Borusan Istikbal. Furthermore, eleven companies, Borusan Birlesik; Borusan Gemlik; BMBYH; Borusan Ihracat; Borusan Ithicat; BMYH; Tubeco; Erbosan; Kale Baglanti; Kale Baglann; and Istikbal Ticaret remain subject to this administrative review because none of these eleven companies: (1) Was selected as a mandatory respondent; ¹³ (2) was the subject of a withdrawal of request for review; (3) requested to participate as a voluntary respondent; or (4) submitted a claim of no shipments. As such, these three companies remain as unexamined respondents.

⁸ See Cinar Boru's Letter, “Circular Welded Carbon Steel Pipes and Tubes from Turkey (A-489-501),” dated June 26. 2019; see also Noksel's Letter, “Circular Welded Carbon Steel Pipes and Tubes (A-489-501) Anti-Dumping Duty Administrative Review (5/1/18—4/30/19),” dated July 22, 2019.

⁹ See Cayirova, Yucel, and Yucelboru's Letter, “Circular Welded Carbon Steel Pipes and Tubes from Turkey; Notification of No Shipments,” dated July 30, 2019.

¹⁰ See Toscelik's Letter, “Circular Pipe from Turkey; Toscelik No Shipment Letter,” dated July 31, 2019.

¹¹ See Memorandum, “Circular Welded Carbon Steel Standard Pipe and Tube from Turkey: Release of Customs and Border Protection Data,” dated July 25, 2019.

¹² See Non-Market Economy Antidumping Proceedings: Assessment of Antidumping Duties, 76 FR 65694, 65694-95 (October 24, 2011) and the “Assessment Rates” section, below; see also Certain Frozen Warmwater Shrimp from Thailand; Preliminary Results of Antidumping Duty Administrative Review, Partial Rescission of Review, Preliminary Determination of No Shipments; 2012-2013, 79 FR 15951, 15952 (March 24, 2014), unchanged in Certain Frozen Warmwater Shrimp from Thailand: Final Results of Antidumping Duty Administrative Review, Final Determination of No Shipments, and Partial Rescission of Review; 2012-2013, 79 FR 51306, 51307 (August 28, 2014).

¹³ See Respondent Selection Memorandum.

Preliminary Results of Review

As a result of this review, we calculated a weighted-average dumping margin of 12.03 percent for Borusan for the period May 1, 2018 through April 30, 2019. We assigned 12.03 percent, the weighted-average dumping margin of the mandatory respondent Borusan to the eleven non-selected companies in these preliminary results, as referenced below.

Producer or exporter | Weighted- average dumping margin (percent)
Borusan Mannesmann Boru Sanayi ve Ticaret A.S./Borusan Istikbal Ticaret T.A.S | 12.03
Borusan Birlesik Boru Fabrikalari San ve Tic | 12.03
Borusan Gemlik Boru Tesisleri A.S | 12.03
Borusan Holding | 12.03
Borusan Ihracat Ithalat ve Dagitim A.S | 12.03
Borusan Ithicat ve Dagitim A.S | 12.03
Borusan Mannesmann Yatirim Holding | 12.03
Tubeco Pipe and Steel Corporation | 12.03
Erbosan Erciyas Boru Sanayi ve Ticaret A.S | 12.03
Kale Baglanti Teknolojileri San. ve Tic. A.S | 12.03
Kale Baglann Teknolojileri San. Ve Tic. A.S | 12.03
Istikbal Ticaret | 12.03

Assessment Rates

Upon completion of the administrative review, Commerce shall determine, and CBP shall assess, antidumping duties on all appropriate entries in accordance with 19 CFR 351.212(b)(1). We intend to issue instructions to CBP 15 days after the date of publication of the final results of this review.

If Borusan's weighted-average dumping margin is not zero or de minimis (i.e., less than 0.5 percent) in the final results of this review, we will calculate importer-specific assessment rates on the basis of the ratio of the total amount of dumping calculated for the importer's examined sales and the total entered value of the sales in accordance with 19 CFR 351.212(b)(1). Where Borusan's weighted-average dumping margin is zero or de minimis, or an importer-specific assessment rate is zero or de minimis, we will instruct CBP to liquidate the appropriate entries without regard to antidumping duties.

With respect to Cinar Boru, Noksel Selik, Cayirova, Yucel, Yucelboru, Toscelik Endustrisi A.S., Tosyali Ticaret, and Toscelik Metal, if we continue to find that these companies had no shipments of subject merchandise in the final results, we will instruct CBP to liquidate any existing entries of merchandise produced by these companies, but exported by other parties, at the rate for the intermediate reseller, if available, or at the all-others rate.¹⁴ In this review, we have preliminarily calculated weighted-average dumping margin of 12.03 percent for Borusan. When only one weighted-average dumping margin for the individually investigated respondents is not zero, de minimis, or based entirely on facts available, the rate for companies that we did not individually examine will be equal to that single weighted-average dumping margin. Accordingly, we have preliminarily assigned to Borusan Birlesik; Borusan Gemlik; BMBYH; Borusan Ihracat; Borusan Ithicat; BMYH; Tubeco; Erbosan; Kale Baglanti; Kale Baglann; and Istikbal Ticaret, companies not individually examined in this review a margin of 12.03 percent, which is the calculated weighted average dumping margin of Borusan.

¹⁴ See, e.g., Magnesium Metal from the Russian Federation: Preliminary Results of Antidumping Duty Administrative Review, 75 FR 26922, 26923 (May 13, 2010), unchanged in Magnesium Metal from the Russian Federation: Final Results of Antidumping Duty Administrative Review, 75 FR 56989 (September 17, 2010).

Cash Deposit Requirements

The following deposit requirements will be effective upon publication of the notice of final results of administrative review for all shipments of standard pipe and tubes from Turkey entered, or withdrawn from warehouse, for consumption on or after the date of publication of the final results of this administrative review, as provided for by section 751(a)(2)(C) of the Act: (1) The cash deposit rate for the companies under review will be the rate established in the final results of this review (except, if the rate is zero or de minimis, no cash deposit will be required); (2) for merchandise exported by manufacturers or exporters not covered in this review but covered in a prior segment of the proceeding, the cash deposit rate will continue to be the company-specific rate published for the most recently completed segment of this proceeding in which the manufacturer or exporter participated; (3) if the exporter is not a firm covered in this review, a prior review, or the less-than-fair-value investigation, but the manufacturer is, the cash deposit rate will be the rate established for the most recently completed segment of the proceeding for the manufacturer of the merchandise; and (4) the cash deposit rate for all other manufacturers or exporters will continue to be 14.74 percent ad valorem, the all-others rate established in the less-than-fair-value investigation.¹⁵ These cash deposit requirements, when imposed, shall remain in effect until further notice.

¹⁵ See Antidumping Duty Order; Welded Carbon Steel Standard Pipe and Tube Products from Turkey, 51 FR 17784 (May 15, 1986).

Disclosure and Public Comment

Commerce intends to disclose the calculations used in our analysis to interested parties in this review within five days of the date of publication of this notice in accordance with 19 CFR 351.224(b). Interested parties are invited to comment on the preliminary results of this review. Pursuant to 19 CFR 351.309(c)(1)(ii), interested parties may submit case briefs no later than 30 days after the date of publication of this notice. Rebuttal briefs, limited to issues raised in the case briefs, may be filed no later than seven days after the time limit for filing case briefs.¹⁶ Parties who submit case briefs or rebuttal briefs in this proceeding are requested to submit with each brief: (1) A statement of the issue, (2) a brief summary of the argument, and (3) a table of authorities.¹⁷ Executive summaries should be limited to five pages total, including footnotes.¹⁸ Case and rebuttal briefs should be filed using ACCESS.¹⁹

¹⁶ See 19 CFR 351.309(d)(1); see also Temporary Rule Modifying AD/CVD Service Requirements Due to COVID-19; Extension of Effective Period, 85 FR 41363 (July 10, 2020) (Temporary Rule).

¹⁷ See 19 CFR 351.309(c)(2) and (d)(2).

¹⁸ Id.

¹⁹ See 19 CFR 351.303.

Pursuant to 19 CFR 351.310(c), any interested party may request a hearing within 30 days of the publication of this notice in the Federal Register. If a hearing is requested, Commerce will notify interested parties of the hearing schedule. Interested parties who wish to request a hearing, or to participate if one is requested, must submit a written request to the Assistant Secretary for Enforcement and Compliance, filed electronically via ACCESS within 30 days after the date of publication of this notice. Requests should contain: (1) The party's name, address, and telephone number; (2) the number of participants; and (3) a list of the issues to be discussed. Issues raised in the hearing will be limited to those raised in the respective case and rebuttal briefs. If a request for a hearing is made, Commerce intends to hold the hearing at a time and date to be determined.

We intend to issue the final results of this administrative review, including the results of our analysis of issues raised by the parties in the written comments, within 120 days of publication of these preliminary results in the Federal Register, unless otherwise extended.²⁰

²⁰ See section 751(a)(3)(A) of the Act.

An electronically filed document must be received successfully in its entirety by ACCESS by 5:00 p.m. Eastern Time on the established deadline. Note that Commerce has temporarily modified certain of its requirements for serving documents containing business proprietary information, until further notice.²¹

²¹ See Temporary Rule.

Notification to Importers

This notice also serves as a preliminary reminder to importers of their responsibility under 19 CFR 351.402(f) to file a certificate regarding the reimbursement of antidumping duties prior to liquidation of the relevant entries during this review period. Failure to comply with this requirement could result in Commerce's presumption that reimbursement of antidumping duties occurred and the subsequent assessment of double antidumping duties.

These preliminary results of administrative review are issued and published in accordance with sections 751(a)(1) and 777(i)(1) of the Act and 19 CFR 351.221(b)(4).

Dated: July 16, 2020.
Jeffrey I. Kessler,
Assistant Secretary for Enforcement and Compliance.

Appendix

List of Topics Discussed in the Preliminary Decision Memorandum

1. Summary

2. Background

3. Scope of the Order

4. Rates for Respondents Not Selected for Individual Examination

5. Preliminary Results of No Shipments

6. Discussion of Methodology

Comparisons to Normal Value

A. Determination of Comparison Method

B. Results of the Differential Pricing Analysis

Product Comparisons

Date of Sale

Treatment of Duties Under Section 232 of the Trade Expansion Act of 1962

Export Price

Constructed Export Price

Duty Drawback

Normal Value

A. Home Market Viability as Comparison Market

B. Level of Trade

C. Affiliated Party Transactions and the Arm's Length Test

D. Cost of Production Analysis

a. Cost Averaging Methodology

b. Calculation of COP

c. Test of Comparison Market Sales Prices

d. Results of the COP Test

e. Calculation of Normal Value Based on Comparison Market Prices

f. Calculation of Normal Value Based on Constructed Value

7. Currency Conversion

8. Recommendation

[FR Doc. 2020-15957 Filed 7-22-20; 8:45 am]

BILLING CODE 3510-DS-P